DEPARTMENT OF JUSTICE

Notice of Lodging of a Consent Decree Under the Comprehensive Environmental Response, Compensation, and Liability Act

Notice is hereby given that on September 5, 2008, a proposed Consent Decree in the case of United States and the Commonwealth of Pennsylvania Department of Environmental Protection v. Temrac Company, Inc., Docket No. 08-4292, was lodged with the United States District Court for the Eastern District of Pennsylvania.

In this proceeding, the United States filed a claim pursuant to Section 107 of the Comprehensive Environmental Response, Compensation, and Liability Act (“CERCLA”), 42 U.S.C. 9607, for reimbursement of costs incurred in connection with response actions taken at the Crossley Farms Superfund Site, located in Huffs Church, Hereford Township, Berks County, Pennsylvania. Pursuant to the Consent Decree, the settling Defendant agrees to pay $1,916,448.77 in reimbursement of costs previously incurred by the United States, and $212,938.93 in reimbursement of costs previously incurred by the Commonwealth of Pennsylvania.

The Department of Justice will receive, for a period of thirty (30) days from the date of this publication, comments relating to the Consent Decree. Comments should be addressed to the Assistant Attorney General, Environment and Natural Resources Division, and either emailed to pubcomment-ees.enrd@usdoj.gov, or mailed to: P.O. Box 7611, U.S. Department of Justice, Washington, D.C. 20044-7611, and should refer to: U.S. v. Temrac Company, Inc., DJ. Ref. 90-11-2-07484/3.

The Consent Decree may be examined at U.S. EPA Region III, Office of Regional Counsel, 1650 Arch Street, Philadelphia, PA 19103-2029, c/o Gail Wilson, Esq. During the public comment period, the Consent Decree may also be examined at the following Department of Justice Web site: http://www.usdoj.gov/enrd/Consent_Decrees.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost), or $ 6.50 for the Consent Decree and the attached exhibits, payable to the U.S. Treasury or, if by e-mail or fax, forward a check in that amount to the Consent Decree Library at the stated address.

Robert Brook,
Assistant Chief, Environmental Enforcement Section, Environment and Natural Resources Division.

[FR Doc. E8-23399 Filed 10-2-08; 8:45 am]

BILLING CODE 4410-15-P